DEPARTMENT OF THE TREASURY

Internal Revenue Service

26 CFR Part 1

[TD 9674]

RIN 1545-BM07

Guidelines for the Streamlined Process of Applying for Recognition of Section 501(c)(3) Status

Correction

In rule document 2014-15623 on pages 37630-37632 of the issue of Wednesday, July 2, 2014 make the following corrections:

§ 1.501(a)-1T [Corrected]

1. On page 37631, in the third column, in § 1.501(a)-1T(f)(2), in the third line, “July 1, 2017” should read “June 30, 2017”.

§ 1.501(c)(3)-1T [Corrected]

2. On page 37632, in the first column, in § 1.501(c)(3)-1T(h)(2), in the third line, “July 1, 2017” should read “June 30, 2017”.

§ 1.508-1T [Corrected]

3. On page 37632, in the third column, in § 1.508-1T(c)(2), in the third and fourth lines, “July 3, 2017” should read “June 30, 2017”.

[FR Doc. C2-2014-15623 Filed 7-17-14; 8:45 am]

BILLING CODE 1505-01-D